DEPARTMENT OF AGRICULTURE

National Institute of Food and Agriculture

7 CFR Part 3434

RIN 0524-AA39

Hispanic-Serving Agricultural Colleges and Universities (HSACU) Certification Process

AGENCY: National Institute of Food and Agriculture (NIFA), Department of Agriculture (USDA).

ACTION: Final rule.

SUMMARY: This amendment to NIFA regulations updates the list of institutions that are granted Hispanic-Serving Agricultural Colleges and Universities (HSACU) certification by the Secretary and are eligible for HSACU programs for the period starting October 1, 2021, and ending September 30, 2022.

DATES: This rule is effective March 31, 2022 and applicable October 1, 2021.

FOR FURTHER INFORMATION CONTACT: Amanda Sahinovic; Financial Policy Specialist; National Institute of Food and Agriculture; U.S. Department of Agriculture; 805 Pennsylvania Ave.; Kansas City, MO 64105; Voice: 816-266-9905; Email: HSACU@usda.gov.

SUPPLEMENTARY INFORMATION:

HSACU Institutions for Fiscal Year 2019: This rule makes changes to the existing list of institutions in appendix B of 7 CFR part 3434. The list of institutions is amended to reflect the institutions that are granted HSACU certification by the Secretary and are eligible for HSACU programs for the period starting October 1, 2021, and ending September 30, 2022.

Certification Process: As stated in 7 CFR 3434.4, an institution must meet the following criteria to receive HSACU certification: (1) Be a Hispanic-Serving Institution (HSI), (2) offer agriculture-related degrees, (3) not be designated an 1862 land-grant institution, (4) not appear on the Excluded Parties List System (EPLS), (5) be accredited, and (6) award at least 15% of agriculture-related degrees to Hispanic students over the two most recent academic years.

NIFA obtained the latest report from the U.S. Department of Education's National Center for Education Statistics that lists all HSIs and the degrees conferred by these institutions (completion data) during the 2019-20 academic year. NIFA used this report to identify HSIs that conferred a degree in an instructional program that appears in appendix A of 7 CFR part 3434 and to confirm that over the 2018-19 and 2019-20 academic years at least 15% of the degrees in agriculture-related fields were awarded to Hispanic students. NIFA further confirmed that these institutions were nationally accredited.

The updated list of HSACUs is based on (1) completions data from 2018-19 and 2019-20, and (2) enrollment data from Fall 2020. NIFA identified 158 institutions that met the eligibility criteria to receive HSACU certification for FY 2022 (October 1, 2021 to September 30, 2022).

Section 7102 of the Agriculture Act of 2018 (Pub. L. 115-334) amended Section 1404(14) of the National Agricultural Research, Extension, and Teaching Policy Act of 1977 (7 U.S.C. 3103(14)) to remove the opt-in, opt-out language for Hispanic Serving Agricultural Colleges and Universities (HSACU) in order to apply for Non Land-Grant College of Agriculture (NLGCA) designation.

Appeal Process: As set forth in 7 CFR 3434.8, NIFA will permit HSIs that are not granted HSACU certification to submit an appeal within 30 days of the publication of this notice.

Classification: This rule relates to public property, loans, grants, benefits, or contracts. Accordingly, pursuant to 5 U.S.C. 553, notice of proposed rulemaking and opportunity for comment are not required, and this rule may be made effective less than 30 days after publication in the Federal Register. This rule also is exempt from the provisions of Executive Order 12866. This action is not a rule as defined by the Regulatory Flexibility Act, as amended by the Small Business Regulatory Enforcement Fairness Act of 1996, 5 U.S.C. 601 et seq., or the Congressional Review Act, 5 U.S.C. 801 et seq., and thus is exempt from the provisions of those Acts. This rule contains no information collection or recordkeeping requirements under the Paperwork Reduction Act of 1995 (44 U.S.C. 3501 et seq.).

List of Subjects in 7 CFR Part 3434

Administrative practice and procedure, Agricultural research, education, extension, Federal assistance, Hispanic-serving institutions.

Accordingly, 7 CFR part 3434 is amended as set forth below:

PART 3434—HISPANIC-SERVING AGRICULTURAL COLLEGES AND UNIVERSITIES CERTIFICATION PROCESS

1. The authority citation for part 3434 continues to read as follows:

Authority: 7 U.S.C. 3103.

2. Revise appendix B to read as follows:

Appendix B to Part 3434—List of HSACU Institutions, 2021-2022

The institutions listed in this appendix are granted HSACU certification by the Secretary and are eligible for HSACU programs for the period starting October 1, 2021 and ending September 30, 2022. Institutions are listed alphabetically under the state of the school's location, with the campus indicated where applicable.

Arkansas (1)

Cossatot Community College of the University of Arkansas

Arizona (14)

Arizona State University—Downtown Phoenix

Arizona Western College

Central Arizona College

Chandler-Gilbert Community College

Cochise County Community College District

Estrella Mountain Community College

GateWay Community College

Mesa Community College

Northern Arizona University

Paradise Valley Community College

Phoenix College

Pima Community College

Rio Salado College

South Mountain Community College

California (87)

Allan Hancock College

American River College

Antelope Valley College

Bakersfield College

Berkeley City College

Butte College

Cabrillo College

California Baptist University

California Lutheran University

California State Polytechnic University—Pomona

California State University—Bakersfield

California State University—Channel Islands

California State University—Chico

California State University—Dominguez Hills

California State University—Fresno

California State University—Fullerton

California State University—Long Beach

California State University—Los Angeles

California State University—Monterey Bay

California State University—Northridge

California State University—Sacramento

California State University—San Bernardino

California State University—San Marcos

California State University—Stanislaus

Chabot College

Chaffey College

Charles R Drew University of Medicine and Science

Citrus College

City College of San Francisco

College of Marin

College of San Mateo

College of the Canyons

College of the Desert

College of the Sequoias

Cosumnes River College

Crafton Hills College

Cuesta College

Cuyamaca College

Feather River Community College District

Fresno City College

Fresno Pacific University

Fullerton College

Hartnell College

Humboldt State University

Las Positas College

Long Beach City College

Los Angeles Pierce College

Merced College

Merritt College

Mills College

MiraCosta College

Mission College

Modesto Junior College

Monterey Peninsula College

Napa Valley College

National University

Orange Coast College

Oxnard College

Pacific Union College

Palo Verde College

Palomar College

Pasadena City College

Reedley College

Rio Hondo College

Saddleback College

Saint Mary's College of California

San Bernardino Valley College

San Diego City College

San Diego Mesa College

San Diego State University

San Joaquin Delta College

San Jose City College

San Jose State University

Santa Monica College

Santa Rosa Junior College

Solano Community College

Southwestern College

University of La Verne

University of Redlands

Ventura College

Victor Valley College

West Hills College-Coalinga

West Los Angeles College

West Valley College

Whittier College

Woodland Community College

Yuba College

Connecticut (1)

Naugatuck Valley Community College

Colorado (9)

Aims Community College

Colorado Mountain College

Colorado State University Pueblo

Community College of Denver

Lamar Community College

Metropolitan State University of Denver

Morgan Community College

Otero Junior College

Trinidad State Junior College

Florida (10)

Broward College

Florida International University

Hillsborough Community College

Indian River State College

Nova Southeastern University

Palm Beach State College

South Florida State College

The College of the Florida Keys

University of Central Florida

Valencia College

Illinois (11)

City Colleges of Chicago—Richard J Daley College

College of DuPage

College of Lake County

Concordia University—Chicago

Dominican University

Joliet Junior College

North Park University

Northeastern Illinois University

Roosevelt University

Rush University

Triton College

Kansas (3)

Dodge City Community College

Garden City Community College

Seward County Community College

Massachusetts (3)

Bunker Hill Community College

Holyoke Community College

North Shore Community College

Maryland (1)

Montgomery College

Nevada (4)

College of Southern Nevada

Nevada State College

Truckee Meadows Community College

University of Nevada—Las Vegas

New Jersey (10)

Bergen Community College

College of Saint Elizabeth

Cumberland County College

Essex County College

Fairleigh Dickinson University—Metropolitan Campus

Hudson County Community College

Kean University

Montclair State University

Rutgers University—Newark

Saint Peter's University

New Mexico (12)

Central New Mexico Community College

Eastern New Mexico University Ruidoso Branch Community College

Eastern New Mexico University—Main Campus

Eastern New Mexico University—Roswell Campus

Mesalands Community College

New Mexico Junior College

Northern New Mexico College

Santa Fe Community College

University of New Mexico—Los Alamos Campus

University of New Mexico—Main Campus

University of the Southwest

Western New Mexico University

New York (14)

College of Staten Island CUNY

CUNY Bronx Community College

CUNY City College

CUNY Hostos Community College

CUNY Hunter College

CUNY LaGuardia Community College

CUNY New York City College of Technology

CUNY Queens College

CUNY Queensborough Community College

CUNY Stella and Charles Guttman Community College

Nassau Community College

Suffolk County Community College

Sullivan County Community College

SUNY Westchester Community College

North Carolina (1)

Sampson Community College

Ohio (1)

Union Institute & University

Oklahoma (1)

Oklahoma Panhandle State University

Oregon (1)

Chemeketa Community College

Pennsylvania (1)

Lehigh Carbon Community College

Puerto Rico (11)

Inter American University of Puerto Rico—Ponce

Inter American University of Puerto Rico—San German

Pontifical Catholic University of Puerto Rico—Arecibo

Pontifical Catholic University of Puerto Rico—Ponce

Universidad Ana G. Mendez—Carolina Campus

Universidad Ana G. Mendez—Cupey Campus

Universidad Ana G. Mendez—Gurabo Campus

Universidad Ana G. Mendez—Online Campus

University of Puerto Rico—Humacao

University of Puerto Rico—Rio Piedras

University of Puerto Rico—Utuado

Texas (37)

Central Texas College

Frank Phillips College

Houston Community College

Lone Star College System

McLennan Community College

Northeast Texas Community College

Odessa College

Palo Alto College

Richland College

Saint Edward's University

San Antonio College

South Plains College

Southwest Texas Junior College

St. Mary's University

Sul Ross State University

Tarrant County College District

Texas A & M University—Corpus Christi

Texas A & M University—Kingsville

Texas State Technical College

Texas State University

Texas Tech University

Texas Woman's University

The University of Texas at Arlington

The University of Texas at Austin

The University of Texas at El Paso

The University of Texas at San Antonio

The University of Texas Health Science Center at Houston

The University of Texas Rio Grande Valley

University of Houston

University of Houston—Clear Lake

University of North Texas

University of St Thomas

University of the Incarnate Word

Vernon College

Wayland Baptist University

West Texas A & M University

Western Texas College

Washington (4)

Big Bend Community College

Heritage University

Wenatchee Valley College

Yakima Valley College

Wisconsin (1)

Mount Mary University

Done at Washington, DC, this day of March 24, 2022.
Carrie L. Castille,
Director, National Institute of Food and Agriculture, U.S. Department of Agriculture.

[FR Doc. 2022-06764 Filed 3-30-22; 8:45 am]

BILLING CODE 3410-22-P